DEPARTMENT OF THE TREASURY

United States Mint

Price for the 2012 Annual Uncirculated Dollar Coin Set

AGENCY: United States Mint, Department of the Treasury.

ACTION: Notice.

SUMMARY: The United States Mint is announcing a price of $54.95 for the 2012 Annual Uncirculated Dollar Coin Set. This set contains the following uncirculated coins: four Presidential $1 Coins, one Native American $1 Coin, and one American Eagle Silver Coin.

FOR FURTHER INFORMATION CONTACT: B. B. Craig, Associate Director for Sales and Marketing; United States Mint; 801 9th Street, NW; Washington, DC 20220; or call 202-354-7500.

Authority: 31 U.S.C. 5111, 5112 & 9701.

Dated: August 28, 2012.
Richard A. Peterson,
Deputy Director, United States Mint.

[FR Doc. 2012-21739 Filed 9-4-12; 8:45 am]

BILLING CODE P